DEPARTMENT OF THE INTERIOR

National Park Service

Notice of Availability of Subsistence Resident Zone Boundary Maps, Wrangell-St. Elias National Park, Alaska

AGENCY: National Park Service, Interior.

ACTION: Notice of availability.

SUMMARY: On February 25, 2002 the communities of Dot Lake, Healy Lake, Northway (including Northway, Northway Village, and Northway Junction), Tanacross, and Tetlin were added (see Federal Register, February 25, 2002, page 8481) to the subsistence resident zone for Wrangell-St. Elias National Park in accordance with the provisions of 36 CFR 13.43(b). The resident zone communities for the park, including the five new communities, are listed at 36 CFR 13.73(a)(1). This designation as resident zone communities means that permanent residents of these communities may hunt on those lands designated as Wrangell-St. Elias National Park (subject to other applicable Federal Subsistence regulations) without needing the special subsistence eligibility permit described in 36 CFR 13.44.

In addition to adding these five communities to the subsistence resident zone, a boundary mapping process was also adopted (see 36 CFR 13.73(a)(2). This process provides for either a default boundary consisting of the area designation used for census purposes or the area designated by the park superintendent in consultation with the communities. In consultation with Dot Lake, Healy Lake, Northway, Tanacross, and Tetlin, the superintendent has determined boundaries for each of these communities.

Notice is hereby provided of boundary designations for each of the five communities in accordance with the consultation provisions of section 13.73(a)(2). As provided, copies of the designated resident zone boundaries are available at the park headquarters office in Copper Center, Alaska

FOR FURTHER INFORMATION CONTACT: Hunter Sharp, Acting Superintendent, or Barbara Cellarius, Subsistence Coordinator, at Wrangell-St. Elias National Park and Preserve, P.O. Box 439, Copper Center, AK 99573, telephone (907) 822-5234.

Dated: June 22, 2004.
Ralph Tingey,
Acting Regional Director, Alaska Region.

[FR Doc. 04-17584 Filed 8-2-04; 8:45 am]

BILLING CODE 4312-HC-P